DEPARTMENT OF ENERGY

Federal Energy Regulatory Commission

Combined Notice of Filings

Take notice that the Commission has received the following Natural Gas Pipeline Rate and Refund Report filings:

Docket Numbers: RP15-1001-000.

Applicants: Texas Eastern Transmission, LP.

Description: Texas Eastern Transmission, LP submits tariff filing per 154.204: May 2015 Deletion of Terminated Non-Conforming Agreements to be effective 7/1/2015.

Filed Date: 05/27/2015.

Accession Number: 20150527-5142.

Comment Date: 5:00 p.m. Eastern Time on Monday, June 08, 2015.

Docket Numbers: RP15-1002-000.

Applicants: Tennessee Gas Pipeline Company, L.L.C.

Description: Tennessee Gas Pipeline Company, L.L.C. submits tariff filing per 154.204: Volume No. 2—NRA—Direct Energy, Sequent and other revisions to be effective 6/1/2015.

Filed Date: 05/27/2015.

Accession Number: 20150527-5195.

Comment Date: 5:00 p.m. Eastern Time on Monday, June 08, 2015.

Docket Numbers: RP15-1003-000.

Applicants: Algonquin Gas Transmission, LLC.

Description: Algonquin Gas Transmission, LLC submits tariff filing per 154.204: BUG 2015-06-01 Ramapo Release to be effective 6/1/2015.

Filed Date: 05/28/2015.

Accession Number: 20150528-5044.

Comment Date: 5:00 p.m. Eastern Time on Tuesday, June 09, 2015.

Docket Numbers: RP15-1004-000.

Applicants: Algonquin Gas Transmission, LLC.

Description: Algonquin Gas Transmission, LLC submits tariff filing per 154.204: KeySpan 2015-06-01 Ramapo Release to be effective 6/1/2015.

Filed Date: 05/28/2015.

Accession Number: 20150528-5046.

Comment Date: 5:00 p.m. Eastern Time on Tuesday, June 09, 2015.

Docket Numbers: RP15-1005-000.

Applicants: Algonquin Gas Transmission, LLC.

Description: Algonquin Gas Transmission, LLC submits tariff filing per 154.204: BBPC 2015-06-01 Releases to EDF Trading to be effective 6/1/2015.

Filed Date: 05/28/2015.

Accession Number: 20150528-5056.

Comment Date: 5:00 p.m. Eastern Time on Tuesday, June 09, 2015.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 28, 2015.
Nathaniel J. Davis, Sr.,
Deputy Secretary.

[FR Doc. 2015-13607 Filed 6-3-15; 8:45 am]

BILLING CODE 6717-01-P